DEPARTMENT OF HOUSING AND URBAN DEVELOPMENT

[Docket No. FR-6141-N-04]

Notice of a Federal Advisory Committee Meeting; Manufactured Housing Consensus Committee

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for two teleconference meetings of the MHCC General Subcommittee. The meetings are open to the public. The agenda for each meeting provides an opportunity for citizens to comment on the business before the MHCC.

DATES: The meetings will be held on July 24, 2019, 10:00 a.m. to 4:00 p.m. Eastern Daylight Time (EDT) and July 30, 2019, 10:00 a.m. to 4:00 p.m. Eastern Daylight Time (EDT). The teleconference number for each teleconference is U.S. toll-free: 866-628-5137 and Participant Code: 4325435. To access the webinar, use the following link: https://zoom.us/j/823980538.

FOR FURTHER INFORMATION CONTACT: Teresa B. Payne, Acting Administrator, Office of Manufactured Housing Programs, Department of Housing and Urban Development, 451 7th Street SW, Room 9164, Washington, DC 20410, telephone 202-708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974, 42 U.S.C. 5403(a)(3), as amended by the Manufactured Housing Improvement Act of 2000 (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment: Citizens wishing to make comments on the business of the MHCC must register by contacting Home Innovation Research Labs; Attention: Kevin Kauffman, 400 Prince Georges Blvd., Upper Marlboro, MD 20774, or email to mhcc@homeinnovation.com or call 1-888-602-4663. With advance registration, members of the public will have an opportunity to provide oral or written comments relative to agenda topics for the Subcommittee's consideration. For the July 24, 2019 teleconference, the written comments must be provided no later than July 18, 2019 and for the July 30, 2019 teleconference, the written comments must be provided by July 26, 2019 to mhcc@homeinnovation.com. Please note, written statements submitted will not be read during the meeting but will be provided to the Subcommittee members prior to the meeting.

The MHCC will also provide an opportunity for oral public comments on specific matters before the General Subcommittee. The total amount of time for oral comments will be 15 minutes with each commenter limited to two minutes to ensure pertinent Subcommittee business is completed. The Subcommittee will not respond to individual written or oral statements; however, it will take all public comments into account in its deliberations. The MHCC strives to accommodate citizen comments to the extent possible within the time constraints of the meeting agenda.

Tentative Agenda

Wednesday, July 24, 2019—10 a.m. to 4 p.m. ET

I. Call to Order and Roll Call

II. Opening Remarks—Subcommittee Chair & Designated Federal Officer (DFO)

III. Approval of minutes from May 5, 2015 General Subcommittee meeting

IV. Public Comment Period—15 minutes

V. Assigned Deregulation Comments Review

Deregulation Comments by Categories:

• Financing Issues—DRC 229, DRC 230, DRC 231, DRC 232, DRC 233, DRC 234, DRC 235, DRC 236, DRC 237, DRC 238, DRC 239, DRC 240, DRC 241, DRC 242, DRC 243, DRC 244, DRC 245, DRC 246

• General Comments about Manufactured Housing Construction and Safety Standards—DRC 25, DRC 30, DRC 32, DRC 33, DRC 34, DRC 35, DRC 36, DRC 37, DRC 38, DRC 39, DRC 41, DRC 42, DRC 43, DRC 44, DRC 45, DRC 46, DRC 47, DRC 49, DRC 50, DRC 51, DRC 52, DRC 53, DRC 54, DRC 55, DRC 56, DRC 57, DRC 60, DRC 61, DRC 62, DRC 64, DRC 65, DRC 66, DRC 67, DRC 68, DRC 69, DRC 70, DRC 71, DRC 72, DRC 73, DRC 74, DRC 75, DRC 76, DRC 77, DRC 78, DRC 79, DRC 82, DRC 83, DRC 84, DRC 85

• Land Issues—DRC 287, DRC 288, DRC 289, DRC 290, DRC 291, DRC 292, DRC 293

• MHCC Issues—DRC 281, DRC 282, DRC 283, DRC 284, DRC 285, DRC 286

• OMHP Administration—DRC 254, DRC 255, DRC 256, DRC 257, DRC 258, DRC 259

• Regulatory Benefits—DRC 266, DRC 267, DRC 268, DRC 269, DRC 271, DRC 273, DRC 274, DRC 275, DRC 276, DRC 277, DRC 278, DRC 279, DRC 280

• Regulatory Burden and Overreach—DRC 3, DRC 7, DRC 15, DRC 20, DRC 21, DRC 23, DRC 198, DRC 199, DRC 200, DRC 201, DRC 202, DRC 203, DRC 204, DRC 205, DRC 206, DRC 207, DRC 208, DRC 209, DRC 210, DRC 211, DRC 212, DRC 213, DRC 214, DRC 215, DRC 216, DRC 217, DRC 218, DRC 219

• State Issue—DRC 29, DRC 228, DRC 260, DRC 261, DRC 262, DRC 263, DRC 264, DRC 265

• Miscellaneous—DRC 294, DRC 295, DRC 296, DRC 297, DRC 298, DRC 299

VI. Lunch from 12 p.m. to 1 p.m.

VII. Assigned Deregulation Comments Review Continued

VIII. Public Comment Period—15 minutes

IX. Wrap Up—DFO & AO

X. Adjourn

Tuesday, July 30, 2019—10 a.m. to 4 p.m. ET

I. Call to Order and Roll Call

II. Opening Remarks—Subcommittee Chair & Designated Federal Officer (DFO)

III. Public Comment Period—15 minutes

IV. Assigned Deregulation Comments Review Continued

V. Lunch from 12 p.m. to 1 p.m.

VI. Assigned Deregulation Comments Review Continued

VII. Public Comment Period—15 minutes

VIII. Wrap Up—DFO & AO

IX. Adjourn

Dated: June 17, 2019.
John L. Garvin,
General Deputy Assistant Secretary, Office of Housing.

[FR Doc. 2019-13367 Filed 6-21-19; 8:45 am]

BILLING CODE 4210-67-P